DEPARTMENT OF LABOR

Employment and Training Administration

[TA-W-71,572; TA-W-71,572A; TA-W-71,572B; TA-W-71,572C]

Amended Revised Determination on Reconsideration

[TA-W-71,572]

Severstal Wheeling, Inc. A subsidiary of severstal North America, Inc., currently known as RG Steel Wheeling, LLC, including workers whose unemployment insurance (UI) wages are reported through Ohio cold rolling company Martins Ferry, Ohio

[TA-W-71,572A]

Severstal Wheeling, Inc. A Subsidiary Of Severstal North America, Inc., currently known as RG Steel Wheeling, LLC, including workers whose unemployment insurance (UI) wages are reported through Ohio cold rolling company Yorkville, Ohio

[TA-W-71,572B]

Severstal Wheeling, Inc., A subsidiary of severstal North America, Inc., currently known as RG Steel Wheeling, LLC, including workers whose unemployment insurance (UI) wages are reported through Ohio cold rolling company Mingo Junction, Ohio

[TA-W-71,572C]

Severstal Wheeling, Inc., A subsidiary of severstal North America, Inc., currently known as RG Steel Wheeling, LLC, including workers whose unemployment insurance (UI) wages are reported through Ohio cold rolling company Steubenville, Ohio

In accordance with Section 223 of the Trade Act of 1974, as amended (“Act”), 19 U.S.C. 2273, the Department of Labor issued a Notice of Revised Determination on Reconsideration on May 6, 2011, applicable to workers of Severstal Wheeling, Inc., a subsidiary of Severstal North America, Inc., Martins Ferry, Ohio; Severstal Wheeling, Inc., a subsidiary of Severstal North America, Inc., Yorkville, Ohio (TA-W-71,572A); Severstal Wheeling, Inc., a subsidiary of Severstal North America, Inc., Mingo Junction, Ohio (TA-W-71,572B); and Severstal Wheeling, Inc., a subsidiary of Severstal North America, Inc., Steubenville, Ohio (TA-W-71,572C). The workers produce a variety of steel coils. The Revised Determination was published in the Federal Register on May 20, 2011 (76 FR 29276-29277). The Revised Determination was amended on June 6, 2011 to include workers whose wages reported under a separate unemployment insurance (UI) tax account under the name RG Steel Wheeling, LLC. The amended Revised Determination was published in the Federal Register on June 15, 2011 (76 FR 35030-35031). The Revised Determination was amended again on August 23, 2011 to correct the impact date established for the Mingo Junction, Ohio location (TA-W-71,572B) to read July 13, 2009. The amended Revised Determination was published in the Federal Register on September 2, 2011 (76 FR 54793-54794).

At the request of the State agency, the Department reviewed the certification for workers of the subject firm. New information shows that as of January, 2013, workers separated from employment at the Martins Ferry, Ohio, Yorkville, Ohio, Mingo Junction, Ohio and Steubenville, Ohio locations of Severstal Wheeling, Inc., a subsidiary of Severstal North America, Inc., currently known as RG Steel Wheeling, LLC had their wages reported through a separate unemployment insurance (UI) tax account under the name Ohio Cold Rolling Company.

Accordingly, the Department is amending this certification to include workers of the subject firm whose unemployment insurance (UI) wages are reported through Ohio Cold Rolling Company.

The intent of the Department's Revised Determination on Reconsideration is to include all workers of the subject firm who were adversely affected by increased imports of steel coils.

The amended notice applicable to TA-W-71,572, TA-W-71,572A, TA-W-71,572B, and TA-W-71,572C are hereby issued as follows:

“All workers of Severstal Wheeling, Inc., a subsidiary of Severstal North America, Inc., currently known as RG Steel Wheeling, LLC, including workers whose unemployment insurance (UI) wages are reported through Ohio Cold Rolling Company, Martins Ferry, Ohio (TA-W-71,572); Severstal Wheeling, Inc., a subsidiary of Severstal North America, Inc., currently known as RG Steel Wheeling, LLC, including workers whose unemployment insurance (UI) wages are reported through Ohio Cold Rolling Company, Yorkville, Ohio (TA-W-71,572A); Severstal Wheeling, Inc., a subsidiary of Severstal North America, Inc., currently known as RG Steel Wheeling, LLC, including workers whose unemployment insurance (UI) wages are reported through Ohio Cold Rolling Company, Steubenville, Ohio (TA-W-71,572C) who became totally or partially separated from employment on or after June 17, 2008 through May 6, 2013 and all workers in the group threatened with total or partial separation from employment on the date of certification through two years from the date of certification, are eligible to apply for adjustment assistance under Chapter 2 of Title II of the Trade Act of 1974, as amended

And

“All workers of Severstal Wheeling, Inc., a subsidiary of Severstal North America, Inc., currently known as RG Steel Wheeling, LLC, including workers whose unemployment insurance (UI) wages are reported through Ohio Cold Rolling Company, Mingo Junction, Ohio (TA-W-71,572B), who became totally or partially separated from employment on or after July 13, 2009, through May 6, 2013, and all workers in the group threatened with total or partial separation from employment on the date of certification through two years from the date of certification, are eligible to apply for adjustment assistance under Chapter 2 of Title II of the Trade Act of 1974, as amended.”

Signed at Washington, DC, this 16th day of May 2013.
Del Min Amy Chen,
Certifying Officer, Office of Trade Adjustment Assistance.

[FR Doc. 2013-12737 Filed 5-29-13; 8:45 am]

BILLING CODE 4510-FN-P